DEPARTMENT OF AGRICULTURE

Food and Nutrition Service

Agency Information Collection Activities: Federal-State Supplemental Nutrition Programs Agreement (Form FNS-339)

AGENCY: Food and Nutrition Service (FNS), USDA.

ACTION: Notice.

SUMMARY: In accordance with the Paperwork Reduction Act of 1995, this notice invites the general public and other public agencies to comment on this proposed information collection. The proposed information collection is a request for a revision of a currently approved collection of information relating to the reporting burden associated with completing and submitting form FNS-339, the Federal-State Supplemental Nutrition Programs Agreement for the administration of the Special Supplemental Nutrition Program for Women, Infants and Children (WIC); the WIC Farmers' Market Nutrition Program (FMNP); and/or the Seniors Farmers' Market Nutrition Program (SFMNP).

DATES: Written comments must be received on or before February 1, 2019.

ADDRESSES: Comments may be sent to: Kurtria Watson, Food and Nutrition Service, U.S. Department of Agriculture, 3101 Park Center Drive, Room 524, Alexandria, VA 22302. Comments may also be submitted via fax to the attention of Kurtria Watson at 703-305-2196 or via email to Kurtria.Watson@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Kurtria Watson at 703-605-4387.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Federal-State Supplemental Nutrition Programs Agreement.

Form Number: FNS-339.

OMB Number: 0584-0332.

Expiration Date: February 28, 2019.

Type of Request: Revision of a currently approved collection.

Abstract: The Federal-State Supplemental Nutrition Programs Agreement (Form FNS-339) is an annual contract between the U.S. Department of Agriculture (USDA) and each State, Territory, and Indian Tribal Government agency seeking to operate one or more of the following programs: The Special Supplemental Nutrition Program for Women, Infants and Children (WIC), the WIC Farmers' Market Nutrition Program (FMNP), and the Seniors Farmers' Market Nutrition Program (SFMNP). The Food and Nutrition Service (FNS), of the USDA, is authorized to administer the WIC and the FMNP Programs under the following authority: Section 17 of the Child Nutrition Act (CNA) of 1966, as amended, and the SFMNP under 7 U.S.C. 3007.

The FNS-339 requires the signature of the Chief State agency official and includes a certification/assurance regarding drug free workplace, a certification regarding lobbying, and a disclosure of lobbying activities. The signed agreement thereby authorizes USDA to make funds available to State agencies for the administration of the WIC, FMNP, and/or SFMNP Programs within the State, and in accordance with 7 Code of Federal Regulations (CFR) parts 246, 248, and 249. The State agency agrees to accept Federal funds for expenditure in accordance with applicable statutes and regulations and to comply with all the provisions of such statutes and regulations, and amendments thereto.

This information collection is requesting a revision in the burden hours due to Program adjustments that primarily reflect expected changes in the number of WIC, FMNP, and/or SFMNP State agencies from year to year. The number of respondents (agencies administering the WIC, FMNP and/or SFMNP Programs) has increased from 124 to 129. This adjustment increased the total annual burden from 31 hours to 32.25 hours. FNS also, has recordkeeping requirements and under-estimated the total annual responses for recordkeeping under the previous burden revision. Under this revision, there is an increase in the total annual responses from 124 to 258.

Affected Public: State, Territory, and Indian Tribal Government Agencies.

Estimated Number of Respondents: The total estimated number of respondents is 129 out of 191 in the possible respondents in the universe. This includes an unduplicated count of respondents that are responsible for the operation of 90 WIC Programs, 49 FMNP Programs, and 52 SFMNP Programs. 5 State agencies solely operate the FMNP program; 19 State agencies solely operate the SFMNP program; 15 State agencies operate both the FMNP and SFMNP programs; 59 State agencies solely operate the WIC program; 13 State agencies operate both the WIC and FMNP programs; 2 State agencies operate both the WIC and SFMNP programs; and 16 State agencies operate the WIC, FMNP, and SFMNP programs.

Estimated Number of Responses per Respondent: 2: There is one response per agency for the completion of the FNS-339 and one response per agency to photocopy and maintain a record of the FNS-339. The FNS-339 allows State agencies to select one or more of the Program(s) which they administer (WIC/FMNP/SFMNP).

Estimated Total Annual Responses: 258 responses; (129 for reporting and 129 for recordkeeping).

Estimated Time per Response: 7.5 minutes for reporting and 7.5 minutes for recordkeeping. The estimated time for each respondent to report and maintain records is 15 minutes (0.25 hours) combined. It takes respondents approximately 7.5 minutes (0.125 hours) to read and sign the required form. Additionally, respondents spend another 7.5 minutes (0.125 hours) making photocopies and filing each year. Therefore, the number of hours spent per each of the 129 reports per year is 0.25 hours totaling the requested 32.25 burden hours.

Estimated Total Annual Burden on Respondents: The total estimated annual burden for reporting is 16.125 and the total estimated annual burden for recordkeeping is 16.125 for a grand total estimate of 32.25 hours. See the table below for the estimated total annual burden for each type of respondent and each activity.

Respondents | Form | Estimated number of respondents | Responses annually per respondent | Total annual responses | Estimated average number of hours per response | Estimated total annual burden hours
Reporting Burden
State, Territory, and Indian Tribal Government Agencies (Respondent types: WIC—90; FMNP—49; SFMNP—52) | FNS-339 | 129 | 1 | 129 | 0.125 | 16.125
Recordkeeping Burden
State, Territory, and Indian Tribal Government Agencies (Respondent types: WIC—90; FMNP—49; SFMNP—52) | FNS-339 | 129 | 1 | 129 | 0.125 | 16.125
Total Reporting and Recordkeeping Burden |  | * 129 | 2 | 258 | 0.125 | 32.25
* This includes an unduplicated count of respondents that are responsible for the operation of 90 WIC Programs, 49 FMNP Programs, and 52 SFMNP Programs. 5 State agencies solely operate the FMNP program; 19 State agencies solely operate the SFMNP program; 15 State agencies operate both the FMNP and SFMNP programs; 59 State agencies solely operate the WIC program; 13 State agencies operate both the WIC and FMNP programs; 2 State agencies operate both the WIC and SFMNP programs; and 16 State agencies operate the WIC, FMNP, and SFMNP programs.

Dated: November 27, 2018.
Brandon Lipps,
Administrator, Food and Nutrition Service.

[FR Doc. 2018-26128 Filed 11-30-18; 8:45 am]

BILLING CODE 3410-30-P